DEPARTMENT OF JUSTICE

Federal Bureau of Prisons

Notice of Public Meeting for the Draft Supplemental Revised Final Environmental Impact Statement for Proposed United States Penitentiary and Federal Prison Camp in Letcher County, Kentucky

AGENCY: Federal Bureau of Prisons, U.S. Department of Justice.

ACTION: Notice.

SUMMARY: The U.S. Department of Justice, Federal Bureau of Prisons (Bureau) is announcing a public meeting for the Draft Supplemental Revised Final Environmental Impact Statement (RFEIS) for the proposed United States Penitentiary (USP) and Federal Prison Camp (FPC) in Letcher County, Kentucky. A 45-day public comment period on the Draft Supplemental RFEIS was initiated with the publication of the Notice of Availability of the Draft Supplemental RFEIS in the Federal Register on March 24, 2017, and will end on May 8, 2017. During the 45-day public comment period, the Bureau will conduct a public meeting to receive oral and written comments on the Draft Supplemental RFEIS. This notice announces the date, time, and location of the public meeting and provides supplementary information about the environmental planning effort.

DATES: The public meeting will be held on April 12, 2017 between 5:30 p.m. and 8:00 p.m.

ADDRESSES: Letcher County Central High School located at 435 Cougar Drive, Whitesburg, Kentucky. Bureau representatives will be available at poster stations during the public meeting to clarify information related to the Draft Supplemental RFEIS. Federal, state, and local agencies and officials, and interested groups and individuals are encouraged to provide comments in person at the public meeting or in writing anytime during the public comment period. At the public meetings, attendees will be able to submit comments in writing and orally to a stenographer who will transcribe comments. Written comments on the Draft Supplemental RFEIS may be submitted during the 45-day review period via the U.S. Postal Service or electronically. Written comments may be submitted via mail to: Mr. Issac Gaston, Site Selection Specialist, U.S. Department of Justice, Federal Bureau of Prisons, 320 First Street NW., Washington, DC 20534. Written comments may also be submitted via email to igaston@bop.gov. All written comments must be postmarked or received via email by May 8, 2017 to ensure consideration in connection with the Final Supplemental RFEIS. All comments received during the public comment period, whether oral or written, will be given equal consideration, become part of the public record on the Draft Supplemental RFEIS and be responded to in the Final Supplemental RFEIS.

The Draft Supplemental RFEIS is available electronically on the project Web site at http://www.fbopletchercountyeis.com. Copies of the Draft Supplemental RFEIS are available for public review at the following repositories:

1. Harry M. Caudill Memorial Library, 220 Main Street, Whitesburg, KY.

2. Blackey Public Library, 295 Main Street Loop, Blackey, KY.

3. Jenkins Public Library, 9543 Highway 805, Jenkins, KY.

4. Fleming Neon Public Library, 1049 Highway 317, Neon, KY.

FOR FURTHER INFORMATION CONTACT: Mr. Issac Gaston, Site Selection Specialist, Capacity Planning and Construction Branch, Federal Bureau of Prisons, 320 First Street NW., Washington, DC 20534 (Telephone: (202) 514-6470, Fax: (202) 616-6024, or Email: igaston@bop.gov).

SUPPLEMENTARY INFORMATION: A Notice of Intent to prepare a Supplemental RFEIS was published in the Federal Register on November 18, 2016 (81 Federal Register 81809). The Draft Supplemental RFEIS was prepared to address changes to the proposed action, as required under NEPA [40 CFR 1502.9(c)], and to assess new circumstances or information relevant to potential environmental impacts. In March 2016, the Bureau completed the Revised Final EIS for the Proposed United States Penitentiary and Federal Prison Camp, Letcher County, Kentucky, which evaluated the potential environmental impacts from the acquisition of property and construction and operation of a new United States Penitentiary, Federal Prison Camp, ancillary facilities, and access roads in Letcher County. The RFEIS analyzed two potential locations: An approximately 753-acre site in eastern Letcher County (Alternative 1—Payne Gap), and an approximately 700-acre site in western Letcher County (Alternative 2—Roxana). The RFEIS identified Alternative 2—Roxana as the preferred alternative because it best meets the project needs and, on balance, would have fewer impacts to the natural and built environment.

The Bureau was originally considering acquiring approximately 700 acres at the Roxana site for this project. The Bureau removed two parcels of land at the Roxana site from acquisition consideration, resulting in a proposed site of approximately 570 acres. This reduction in site size necessitated modifying the facilities layout evaluated for Alternative 2—Roxana in the RFEIS. The environmental impacts of the Modified Alternative 2—Roxana have been analyzed in the Draft Supplemental RFEIS. The alternatives evaluated in the Draft Supplemental RFEIS include the No Action Alternative and Modified Alternative 2—Roxana.

Modified Alternative 2—Roxana is the Preferred Alternative and includes proposed facilities that would house approximately 1,216 total inmates: Approximately 960 within the USP and approximately 256 within the FPC. Inmates housed in the USP would be high-security male inmates and those housed in the FPC would be minimum-security male inmates. In addition to the USP and FPC, several ancillary facilities necessary for the operation of the USP and FPC would be constructed. The ancillary facilities would include a central utility plant, outdoor firing range, outside warehouse, staff training building, garage/landscape building, access roads, and parking lots. A non-lethal/lethal fence and site lighting would also be installed. The non-lethal/lethal fence would be placed around the perimeter of the USP between two parallel, chain link and razor wire fences. Operation of the USP and FPC would require approximately 300 full-time staff.

The Draft Supplemental RFEIS analyzes potential direct, indirect and cumulative environmental impacts that may result from Modified Alternative 2—Roxana, including land use and zoning; topography, geology, and soils; air quality; noise; infrastructure and utilities; cultural resources; water resources; and biological resources. The Bureau determined there is no significant new information relevant to environmental concerns and no appreciable changes to potential impacts as a result of the modifications to the Roxana site size and facilities layout under Modified Alternative 2—Roxana to the following resource areas: Socioeconomics and environmental justice, community facilities and services, transportation and traffic, and hazardous materials and waste. Relevant and reasonable measures that could avoid or mitigate environmental impacts have been analyzed.

The Bureau is consulting with the U.S. Fish and Wildlife Service under Section 7 of the Endangered Species Act and with the Kentucky Heritage Council under Section 106 of the National Historic Preservation Act. When complete, results of these ongoing consultations will be included in the Final Supplemental RFEIS.

A notice of availability of the Draft Supplemental RFEIS and a notice of public meeting is being published in the area newspapers to identify further details about the public meeting and the specific opportunities and methods for the public to provide comments on the Draft Supplemental RFEIS. The mailing list for the Draft Supplemental RFEIS was based on the mailing list in the 2016 RFEIS. Those on this list will receive a copy of the Draft Supplemental RFEIS. This list includes local, state, and federal agencies with jurisdiction, elected officials and community leaders, businesses and organizations, and other interested parties and individuals. Anyone wishing to be added to the mailing list to receive a copy of the Draft Supplemental RFEIS may request to be added by contacting the Bureau's Site Selection Specialist at the address below. Following completion of the 45-day public comment period on the Draft Supplemental RFEIS, the Bureau will issue a Final Supplemental RFEIS that will include comments received during the public comment period on the Draft Supplemental RFEIS. The Final Supplemental RFEIS will also include the Bureau's response to substantive comments received on the Draft Supplemental RFEIS. Following publication of the Final Supplemental RFEIS, a 30-day review period will be provided. No action will be taken to implement any of the proposed alternatives until completion of the 30-day review period on the Final Supplemental RFEIS and issuance of a Record of Decision on behalf of the Bureau by its Director or Acting Director.

Dated: March 17, 2017.
Issac Gaston,
Site Selection Specialist, Capacity Planning and Construction, U.S. Department of Justice, Federal Bureau of Prisons.

[FR Doc. 2017-05784 Filed 3-23-17; 8:45 am]

BILLING CODE 4410-P